DEPARTMENT OF EDUCATION

34 CFR Chapter VI

[Docket ID ED-2014-OPE-0124]

Negotiated Rulemaking Committee; Public Hearings

AGENCY: Office of Postsecondary Education, Department of Education.

ACTION: Intent to establish negotiated rulemaking committee.

SUMMARY: We announce our intention to establish a negotiated rulemaking committee to prepare proposed regulations governing the Federal William D. Ford Direct Loan (Federal Direct Loan) Program authorized under Title IV of the Higher Education Act of 1965, as amended (HEA). The committee will include representatives of organizations or groups with interests that are significantly affected by the subject matter of the proposed regulations. We also announce two public hearings at which interested parties may suggest additional issues that should be considered for action by the negotiating committee. In addition, we announce that the Department will accept written comments regarding additional issues that should be considered for action by the negotiating committee.

DATES: The dates, times, and locations of the public hearings are listed under the SUPPLEMENTARY INFORMATION section of this notice. We must receive written comments suggesting issues that should be considered for action by the negotiating committee on or before November 4, 2014.

ADDRESSES: Submit your comments through the Federal eRulemaking Portal or via postal mail, commercial delivery, or hand delivery. We will not accept comments by fax or by email. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket is available on the site under “Are you new to the site?”

• Postal Mail, Commercial Delivery, or Hand Delivery. If you mail or deliver your comments about these proposed regulations, address them to Wendy Macias, U.S. Department of Education, 1990 K Street NW., Room 8017, Washington, DC 20006.

Privacy Note: The Department's policy is to make all comments received from members of the public (including those comments submitted by mail, commercial delivery, or hand delivery) available for public viewing in their entirety on the Federal eRulemaking Portal at www.regulations.gov. Therefore, commenters should be careful to include in their comments only information that they wish to make publicly available.

FOR FURTHER INFORMATION CONTACT: For information about the public hearings, go to http://www2.ed.gov/policy/highered/reg/hearulemaking/2015/index.html or contact: Wendy Macias, U.S. Department of Education, 1990 K Street NW., Room 8017, Washington, DC 20006. Telephone: (202) 502-7526 or by email: Wendy.Macias@ed.gov.

For information about negotiated rulemaking in general, see The Negotiated Rulemaking Process for Title IV Regulations, Frequently Asked Questions at http://www2.ed.gov/policy/highered/reg/hearulemaking/hea08/neg-reg-faq.html or contact: Wendy Macias, U.S. Department of Education, 1990 K Street NW., Room 8017, Washington, DC 20006. Telephone: (202) 502-7526 or by email: Wendy.Macias@ed.gov.

If you use a telecommunications device for the deaf (TDD) or text telephone (TTY), call the Federal Relay Service (FRS) toll free at 1-800-877-8339.

SUPPLEMENTARY INFORMATION: Section 492 of the HEA requires that, before publishing any proposed regulations to implement programs authorized under Title IV of the HEA, the Secretary obtain public involvement in the development of the proposed regulations. After obtaining advice and recommendations from the public, the Secretary conducts negotiated rulemaking to develop the proposed regulations. We announce our intent to develop proposed Title IV regulations by following the negotiated rulemaking procedures in section 492 of the HEA.

We intend to select participants for the negotiated rulemaking committee from nominees of the organizations and groups that represent the interests significantly affected by the proposed regulations. To the extent possible, we will select from the nominees individual negotiators who reflect the diversity among program participants, in accordance with section 492(b)(1) of the HEA.

Regulatory Issues

We intend to convene a committee to develop proposed regulations to allow more student borrowers of Federal Direct Loans to use the “Pay as You Earn Repayment Plan”, in accordance with the Presidential Memorandum issued on June 9, 2014, (available at www.whitehouse.gov/the-press-office/2014/06/09/presidential-memorandum-federal-student-loan-repayments). Section 1 of the memorandum directs the Secretary to issue, within one year, proposed regulations that expand the President's Pay as You Earn Repayment Plan to more Federal Direct Loan borrowers by allowing additional Federal Direct Loan borrowers to cap their Federal student loan payments at 10 percent of their income. The memorandum directs the Secretary to seek to target this option to those borrowers who would otherwise struggle to repay their loans, and to issue final regulations in a timely fashion after considering all public comments, as appropriate, with the goal of making the repayment option available to borrowers by December 31, 2015.

After a complete review of the public comments presented at the public hearings and in the written submissions, we will publish a document (or documents) in the Federal Register announcing the specific subject areas for which we intend to establish a negotiated rulemaking committee, and a request for nominations for individual negotiators for the committee who represent the communities of interest that would be significantly affected by the proposed regulations.

Public Hearings

We will hold two public hearings for interested parties to discuss the rulemaking agenda. The public hearings will be held:

• October 23, 2014, from 9:00 a.m. to 4:00 p.m. local time, at the U.S. Department of Education, 1990 K Street NW., Eighth Floor Conference Center, Washington, DC 20006.

• November 4, 2014, from 1 p.m. to 4 p.m. local time, at the Marriott Anaheim, 700 West Convention Way, Grand Ballroom E, Anaheim, CA 92802.

Further information on the public hearing sites is available at http://www2.ed.gov/policy/highered/reg/hearulemaking/2015/index.html.

Individuals who would like to present comments at the public hearings must register by sending an email to negreghearing@ed.gov. The email should include the name of the presenter along with the public hearing at which the individual would like to speak, and a general timeframe during which the individual would like to speak (for example, a presenter could indicate morning or afternoon, or before 11:00 a.m. or after 3:00 p.m.). We will attempt to accommodate each speaker's preference, but, if we are unable to do so, we will make the determination on a first-come first-served basis (based on the time and date the email was received). It is likely that each participant will be limited to five minutes. The Department will notify registrants of the location and time slot reserved for them. An individual may make only one presentation at the public hearings. If we receive more registrations than we are able to accommodate, the Department reserves the right to reject the registration of an entity or individual that is affiliated with an entity or individual that is already scheduled to present comments, and to select among registrants to ensure that a broad range of entities and individuals is allowed to present. We will accept walk-in registrations on the day of the hearing for any remaining time slots on a first-come first-served basis, beginning at 8:30 a.m. at the Washington, DC hearing, and at 12:30 p.m. at the Anaheim, CA hearing.

Registration is not required to observe the public hearings.

Speakers may also submit written comments at the public hearings. In addition, the Department will accept written comments through November 4, 2014. (See the ADDRESSES sections of this notice for submission information.)

Schedule for Negotiations

We anticipate that any committee established after the public hearings will begin negotiations in February 2015, with the committee meeting for up to three sessions of approximately three days each at roughly monthly intervals. The committee will meet in the Washington, DC area. The dates and locations of these meetings will be published in a subsequent document in the Federal Register, and will be posted on the Department's Web site at: http://www2.ed.gov/policy/highered/reg/hearulemaking/2015/index.html.

Accessible Format: Individuals with disabilities can obtain this document in an accessible format (e.g., braille, large print, audiotape, or compact disc) by contacting Wendy Macias, U.S. Department of Education, 1990 K Street NW., Room 8017, Washington, DC 20006. Telephone: (202) 502-7526 or by email: Wendy.Macias@ed.gov.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site. You may also access documents of the Department published in the Federal Register by using the article search feature at: www.federalregister.gov. Specifically, through the advanced search feature at this site, you can limit your search to documents published by the Department.

Program Authority: 20 U.S.C. 1098a.

Dated: August 28, 2014.
Lynn B. Mahaffie,
Acting Assistant Secretary for Postsecondary Education.

[FR Doc. 2014-20977 Filed 9-2-14; 8:45 am]

BILLING CODE 4000-01-P